SECURITIES AND EXCHANGE COMMISSION

[Release No. 34-43798; File No. SR-BSE-00-12]

Self-Regulatory Organizations; Order Approving Proposed Rule Change by the Boston Stock Exchange, Inc. Relating to the Time Period for Filing Claims Against Specialists

January 3, 2001.

I. Introduction

On September 21, 2000, the Boston Stock Exchange, Inc. (“BSE”), filed with the Securities and Exchange Commission (“Commission”) a proposed rule change pursuant to section 19(b)(1) of the Securities Exchange Act of 1934 (“Act”),¹ and Rule 19b-4 thereunder.² On October 3, 2000, the BSE filed Amendment No. 1 to the proposed rule change.³ Notice of the proposed rule change, as amended, was published for comment in the Federal Register on November 1, 2000.⁴ No comments were received on the proposal. This order approves the proposed rule change.

¹ 15 U.S.C. 78s(b)(1).

² 17 CFR 240.19b-4.

³ In Amendment No. 1, the Exchange made certain technical changes relating, inter alia, to the format of the filing, the date of effectiveness of the proposed rule change, and the authorization procedures of the Exchange. See Amendment No. 1, filed October 3, 2000.

⁴ See Securities Exchange Act Release No. 43506 (November 1, 2000), 65 FR 67783 (November 13, 2000).

II. Description of the Proposed Rule Change

The BSE proposes to amend Chapter XV, Section 14, of its rules, titled “Claims and Reports Against Specialists”. The amendment shortens the permitted time period for: filing claims against specialists relating to erroneous comparisons and the omission of a report that was properly made, to three business days. The amendment will bring the time frames in the rule into parity with the settlement period required by Rule 15c6-1 under the Act.⁵

⁵ 17 CFR 240.15c6-1.

III. Discussion

After careful review, the Commission finds that the proposed rule change is consistent with the requirements of the Act and the rules and regulations thereunder applicable to a national securities exchange.⁶ In particular, the Commission believes that the proposal is consistent with section 6(b)(5) of the Act,⁷ which requires, among other things, that the rules of an exchange be designed to foster cooperation and coordination with persons engaged in regulating, clearing, settling, processing information with respect to, and facilitating transactions in securities. The Commission believes that shortening the time frame within which a claim relating to an erroneous comparison must be made so that it is consistent with the settlement time frame mandated by Rule 15c6-1 under the Act should promote timely settlement of securities transactions.

⁶ In approving this proposal, the Commission has considered the proposed rule's impact on efficiency, competition, and capital formation. 15 U.S.C. 78(c)(f).

⁷ 15 U.S.C. 78f(b)(5).

IV. Conclusion

For the foregoing reasons, the Commission finds that the proposed rule change is consistent with the requirements of the Act, and the rules and regulations thereunder.

It Is Therefore Ordered, pursuant to section 19(b)(2) of the Act,⁸ that the proposed rule change (File No. SR-BSE-00-12), as amended, is approved.

⁸ 15 U.S.C. 78s(b)(2).

For the Commission by the Division of Market Regulation, pursuant to delegated authority.⁹
⁹ 17 CFR 200.30-3(a)(12).
Margaret H. McFarland,
Deputy Secretary.

[FR Doc. 01-790 Filed 1-10-01; 8:45 am]

BILLING CODE 8010-01-M